DEPARTMENT OF COMMERCE

National Oceanic and Atmospheric Administration

[RTID 0648-XB040]

Magnuson-Stevens Act Provisions; General Provisions for Domestic Fisheries; Coastal Pelagic Species Fishery; Applications for Exempted Fishing Permits; 2021-2022 Fishing Year

AGENCY: National Marine Fisheries Service (NMFS), National Oceanic and Atmospheric Administration (NOAA), Commerce.

ACTION: Notice of receipt of application; request for comments.

SUMMARY: The Regional Administrator, West Coast Region, NMFS, has made a preliminary determination that three Exempted Fishing Permit applications warrant further consideration. All three applications, two from the California Wetfish Producers Association and one from the West Coast Pelagic Conservation Group, request an exemption from the expected prohibition on primary directed fishing for Pacific sardine during the 2021-2022 fishing year to collect Pacific sardine as part of industry-based scientific surveys. NMFS requests public comment on the applications.

DATES: Comments must be received by June 14, 2021.

ADDRESSES: You may submit comments on this document, identified by NOAA-NMFS-2021-0042, by the following method:

• Electronic Submissions: Submit all public comments via the Federal e-Rulemaking Portal. Go to www.regulations.gov and enter NOAA-NMFS-2021-0042 in the Search box. Click the “Comment” icon, complete the required fields, and enter or attach your comments. The EFP applications will be available under Supporting and Related Materials through the same link.

Instructions: Comments must be submitted by the above method to ensure that the comments are received, documented, and considered by NMFS. Comments sent by any other method or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

FOR FURTHER INFORMATION CONTACT: Lynn Massey, West Coast Region, NMFS, (562) 436-2462, lynn.massey@noaa.gov.

SUPPLEMENTARY INFORMATION: This action is authorized by the Coastal Pelagic Species (CPS) Fishery Management Plan (FMP) and regulations at 50 CFR 600.745, which allow NMFS Regional Administrators to authorize exempted fishing permits (EFPs) to test fishing activities that would otherwise be prohibited.

At its April 2021 meeting, the Pacific Fishery Management Council (Council) recommended that NMFS approve three EFP applications for the 2021-2022 Pacific sardine fishing year. All three applications, two from the California Wetfish Producers Association (CWPA) and one from the West Coast Pelagic Conservation Group (WCPCG), are renewal requests for an exemption from the expected prohibition on primary directed fishing for Pacific sardine during the 2021-2022 fishing year; the purpose of the requests are to collect Pacific sardine as part of industry-based scientific surveys. The Council considered these EFP applications concurrently with the 2021-2022 annual harvest specifications for Pacific sardine because expected Pacific sardine catch under each EFP would be accounted for under the proposed 2021-2022 annual catch limit (ACL), which is 3,329 metric tons (mt). A summary of each EFP application is provided below:

(1) Proposal for Renewal of Exempted Fishery Permit (EFP) To Allow Take of Pacific Sardine (for Point Sets) in 2021 Nearshore Research Program: The CWPA submitted a renewal application for their CPS Nearshore Cooperative Survey (NCS) program. The purpose of this EFP project is to continue to develop a sampling methodology for estimating CPS biomass in shallow waters that are not accessible to NOAA survey ships. Since 2012 the California Department of Fish and Wildlife, in partnership with the CWPA, has been conducting aerial surveys to estimate the biomass and distribution of Pacific sardine and certain other CPS in nearshore waters in the Southern California Bight, and in the Monterey-San Francisco area since the summer of 2017. Currently, there is uncertainty in the biomass estimates from aerial spotter pilots. The CPS-NCS survey aims to quantify that level of uncertainty by capturing CPS schools identified by aerial spotter pilots and validating the biomass and species composition of the schools. If approved, this EFP would allow up to six participating vessels to directly harvest a total of 300 mt of Pacific sardine during the 2021-2022 fishing year. A portion of each point set (i.e., an individual haul of fish captured with a purse seine net) would be retained for biological sampling, and the remainder will be sold by the participating fishermen and processors to offset research costs and avoid unnecessary discard.

(2) Request for Renewal of Exempted Fishery Permit (EFP) To Allow Fishing of Pacific Sardine For Biological Samples in 2021 Nearshore Research Program: The CWPA submitted a renewal application for their biological sampling EFP project. The primary directed fishery for Pacific sardine has been closed since 2015, and consequently, scientists at the Southwest Fisheries Science Center (SWFSC) have a limited amount of fishery-dependent data to use in their annual stock assessment. The goal of this EFP project is to provide additional biological data (i.e., age and length data from directed harvest) for potential use in Pacific sardine stock assessments. If approved, this EFP would allow up to six participating vessels to directly harvest up to 520 mt of Pacific sardine during the 2021-2022 fishing year. A portion of each landing would be retained for biological sampling by the California Department of Fish and Wildlife, and the remainder would be sold by the participating fishermen and processors to offset research costs and avoid unnecessary discard.

(3) Exempted Fishery Permit to continue an industry-federal-state collaborative acoustic survey for CPS in nearshore waters: The WCPCG submitted a renewal application for their Nearshore Surveillance Acoustic Trawl Methodology Survey of North West Coastal Waters EFP project. Since 2017, the WCPCG has been working with NMFS' SWFSC and the Washington Department of Fish and Wildlife to survey CPS in nearshore Oregon/Washington coastal waters. The purpose of the EFP is to collect biological samples in areas inshore of the SWFSC acoustic trawl survey to better assess species composition and CPS distribution and abundance. If approved, this EFP would allow one research vessel to harvest up to 10 mt of Pacific sardine during the 2021-2022 fishing year. A portion of each set (i.e., an individual haul of fish captured with a purse seine net) would be retained by the Washington Department of Fish and Wildlife for biological sampling, and the remainder of the set would be released from the purse seine net immediately after collecting the biological samples.

Altogether, these EFP projects total 830 mt. If NMFS does not issue these EFPs, then this 830-mt portion of the ACL would be available for harvest by other permissible fishing activities during the 2021-2022 fishing year (e.g., live bait or minor directed harvest).

After publication of this document in the Federal Register, NMFS may approve and issue permits to participating vessels after the close of the public comment period. NMFS will consider comments submitted in deciding whether to approve the applications as requested. NMFS may approve the applications in their entirety or may make any alterations needed to achieve the goals of the EFP projects. NMFS may also approve different amounts of Pacific sardine allocation for each EFP project if any changes are made to the 2021-2022 proposed sardine harvest specifications before final implementation.

Authority: 16 U.S.C. 1801 et seq.

Dated: May 25, 2021.
Jennifer M. Wallace,
Acting Director, Office of Sustainable Fisheries, National Marine Fisheries Service.

[FR Doc. 2021-11331 Filed 5-27-21; 8:45 am]

BILLING CODE 3510-22-P